DEPARTMENT OF HEALTH AND HUMAN SERVICES

National Institutes of Health

National Heart, Lung, and Blood Institute; Amended Notice of Meeting

Notice is hereby given of a change in the meeting of the National Heart, Lung, and Blood Institute Special Emphasis Panel, December 12, 2006, 2 p.m. to December 12, 2006, 5 p.m., National Institutes of Health, 6701 Rockledge Drive, Bethesda, MD 20892 which was published in the Federal Register on November 3, 2006, FR-06-9030.

The December 12, 2006 meeting date was changed to December 11, 2006. The meeting is closed to the public.

Dated: November 21, 2006.
David Clary,
Acting Director, Office of Federal Advisory Committee Policy.

[FR Doc. 06-9457 Filed 11-28-06; 8:45 am]

BILLING CODE 4140-01-M